ENVIRONMENTAL PROTECTION AGENCY

[EPA-HQ-OAR-2007-0492; FRL-8955-2]

Release of Draft Documents Related to the Review of the National Ambient Air Quality Standards for Particulate Matter

AGENCY: Environmental Protection Agency (EPA).

ACTION: Availability of draft documents for public comment.

SUMMARY: On or about September 4, 2009, the Office of Air Quality Planning and Standards (OAQPS) of EPA is making available for public comment two draft assessment documents: Risk Assessment to Support the Review of the PM Primary National Ambient Air Quality Standards—External Review Draft and Particulate Matter Urban-Focused Visibility Assessment—External Review Draft. These draft documents describe the quantitative analyses that are being conducted as part of the review of the National Ambient Air Quality Standards (NAAQS) for particulate matter (PM).

DATES: Comments should be submitted on or before October 15, 2009.

ADDRESSES: Submit your comments, identified by Docket ID No. EPA-HQ-OAR-2007-0492, by one of the following methods:

• http://www.regulations.gov: Follow the on-line instructions for submitting comments.

• E-mail: Comments may be sent by electronic mail (e-mail) to a-and-r-docket@epa.gov, Attention Docket ID No. EPA-HQ-OAR-2007-0492.

• Fax: Fax your comments to 202-566-9744, Attention Docket ID. No. EPA-HQ-OAR-2007-0492.

• Mail: Send your comments to: Air and Radiation Docket and Information Center, Environmental Protection Agency, Mailcode: 2822T, 1200 Pennsylvania Ave., NW., Washington, DC 20460, Attention Docket ID No. EPA-HQ-OAR-2007-0492.

• Hand Delivery or Courier: Deliver your comments to: EPA Docket Center, 1301 Constitution Ave., NW., Room 3334, Washington, DC. Such deliveries are only accepted during the Docket's normal hours of operation, and special arrangements should be made for deliveries of boxed information.

Instructions: Direct your comments to Docket ID No. EPA-HQ-OAR-2007-0492. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket in the EPA Docket Center, EPA West, Room 3334, 1301 Constitution Ave., NW., Washington, DC. This Docket Facility is open from 8:30 a.m. to 4:30 p.m. Monday through Friday, excluding legal holidays. The Docket telephone number is 202-566-1742; fax 202-566-9744.

FOR FURTHER INFORMATION CONTACT: For questions related to the draft document titled, Risk Assessment to Support the Review of the PM Primary National Ambient Air Quality Standards: External Review Draft (September 2009), please contact Dr. Zachary Pekar, Office of Air Quality Planning and Standards (Mail code C504-06), U.S. Environmental Protection Agency, Research Triangle Park, NC 27711; e-mail: pekar.zachary@epa.gov; telephone: 919-541-3704; fax: 919-541-0237.

For questions related to the draft document titled, Particulate Matter Urban-Focused Visibility Assessment—External Review Draft (September 2009), please contact Ms. Vicki Sandiford, Office of Air Quality Planning and Standards (Mail code C504-06), U.S. Environmental Protection Agency, Research Triangle Park, NC 27711; e-mail: sandiford.vicki@epa.gov; telephone: 919-541-2629; fax: 919-541-0237.

For questions related to the preliminary draft document, Policy Assessment for the Review of the Particulate Matter National Ambient Air Quality Standards: Preliminary Draft (September 2009), please contact Ms. Beth Hassett-Sipple, Office of Air Quality Planning and Standards (Mail code C504-06), U.S. Environmental Protection Agency, Research Triangle Park, NC 27711; e-mail: hassett-sipple.beth@epa.gov; telephone: 919-541-4605; fax: 919-541-0237.

General Information

A. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Make sure to submit your comments by the comment period deadline identified.

SUPPLEMENTARY INFORMATION: Under section 108(a) of the Clean Air Act (CAA), the Administrator identifies and lists certain pollutants which “cause or contribute to air pollution which may reasonably be anticipated to endanger public health or welfare.” The EPA then issues air quality criteria for these listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes primary (health-based) and secondary (welfare-based) NAAQS for pollutants for which air quality criteria are issued. Section 109(d) of the CAA requires periodic review and, if appropriate, revision of existing air quality criteria. The revised air quality criteria reflect advances in scientific knowledge on the effects of the pollutant on public health or welfare. The EPA is also required to periodically review and revise the NAAQS, if appropriate, based on the revised criteria.

Air quality criteria have been established for PM and NAAQS have been established for PM2.5 and PM10, to provide protection from fine and coarse particles, respectively. Presently, EPA is reviewing the air quality criteria and NAAQS for PM. The EPA's overall plan and schedule for this review is presented in the Integrated Review Plan for the National Ambient Air Quality Standards for Particulate Matter.¹ A draft of the integrated review plan was released for public review and comment in October 2007 and was the subject of a consultation with the CASAC on November 30, 2007 (72 FR 63177; November 8, 2007). Comments received from that consultation and from the public were considered in finalizing the plan and in beginning the review of the air quality criteria.

¹ EPA 452R-08-004; March 2008; Available: http://www.epa.gov/ttn/naaqs/standards/pm/s_pm_2007_pd.html.

As part of EPA's review of the primary (health-based) and secondary (welfare-based) PM NAAQS, the Agency is conducting quantitative assessments characterizing (1) the health risks associated with exposure to ambient PM and (2) urban visibility impairment associated with PM. The EPA's plans for conducting these assessments, including the proposed scope and methods of the analyses, were presented in two planning documents titled, Particulate Matter National Ambient Air Quality Standards: Scope and Methods Plan for Health Risk and Exposure Assessment and Particulate Matter National Ambient Air Quality Standards: Scope and Methods Plan for Urban Visibility Impact Assessment (henceforth, Scope and Methods Plans).² These documents were released for public comment in February 2009 and were the subject of a consultation with the CASAC on April 2, 2009 (74 FR 11580; March 18, 2009). Comments received from the CASAC consultation (Samet, 2009) ³ as well as public comments on the Scope and Methods Plans have been considered in developing the draft assessment documents being released at this time.

² EPA-452/P-09-001 and -002; February 2009; Available: http://www.epa.gov/ttn/naaqs/standards/pm/s_pm_2007_pd.html.

³ See http://yosemite.epa.gov/sab/sabproduct.nsf/4620a620d0120f93852572410080d786/350899ec134552948525746600691de5!OpenDocument.

The draft documents announced today convey the approaches taken to assess exposures to ambient PM and to characterize associated health risks or urban visibility impairment, as well as present the initial key results, observations, and related uncertainties associated with the quantitative analyses performed. These draft documents will be available on or about September 4, 2009, through the Agency's Technology Transfer Network (TTN) Web site at http://www.epa.gov/ttn/naaqs/standards/pm/s_pm_index.html. These documents may be accessed in the “Documents from Current Review” section under “Risk and Exposure Assessments.” The EPA is soliciting advice and recommendations from the CASAC by means of a review of the draft documents at an upcoming public meeting of the CASAC scheduled in Chapel Hill, NC. Information about this public meeting, including the date and location, will be published as a separate notice in the Federal Register. Following the CASAC meeting, EPA will consider comments received from the CASAC and the public in preparing revisions to these assessment documents.

In addition, on or about September 15, 2009, EPA will make available a third draft document: Policy Assessment for the Review of the National Ambient Air Quality Standards: Preliminary Draft. The development of this document is a result of recent changes to the NAAQS review process. On May 21, 2009, Administrator Jackson called for key changes to the NAAQS review process including reinstating a policy assessment document that contains staff analyses of the scientific bases for alternative policy options for consideration by senior Agency management prior to rulemaking. This document, which builds upon the historical “Staff Paper,” will serve to “bridge the gap” between the scientific information and the judgments required of the Administrator in determining whether it is appropriate to retain or revise the standards. In conjunction with this change, EPA will no longer issue a policy assessment in the form of an Advance Notice of Proposed Rulemaking (ANPR).⁴

⁴ See http://www.epa.gov/ttn/naaqs/review.html for a copy of Administrator Jackson's May 21, 2009 memorandum and for additional information on the NAAQS review process.

The preliminary draft Policy Assessment (PA) builds upon information presented in the Integrated Science Assessment for Particulate Matter (Second External Review Draft) ⁵ and the two draft assessment documents described above. This preliminary draft PA will include several chapters but is not intended to be a complete draft PA document in that it will not include staff conclusions on a range of policy options that could be appropriate for the Administrator to consider concerning whether, and if so how, to revise the primary and secondary PM NAAQS. It is instead being released for informational purposes to facilitate a discussion with CASAC on the overall structure, areas of focus, and level of detail to be included in an external review draft of the document, which EPA plans to release for CASAC review and public comment later this year.

⁵ EPA/600/R-08/139B; July 2009; Available: http://www.epa.gov/ttn/naaqs/standards/pm/s_pm_2007_isa.html.

The preliminary draft PA may be accessed online through EPA's TTN Web site at http://www.epa.gov/ttn/naaqs/standards/pm/s_pm_index.html. This document may be accessed in the “Documents from Current Review” section under “Policy Assessments.” The discussion with CASAC on this preliminary draft PA will be held at the same meeting that CASAC will review of the second draft ISA and the two draft assessment documents described above.

The draft documents briefly described above do not represent and should not be construed to represent any final EPA policy, viewpoint, or determination. The EPA will consider any public comments submitted in response to this notice when revising the documents.

Dated: September 2, 2009.
Jeffrey S. Clark,
Acting Director, Office of Air Quality Planning and Standards.

[FR Doc. E9-21822 Filed 9-9-09; 8:45 am]

BILLING CODE 6560-50-P